DEPARTMENT OF LABOR

Employment and Training Administration

[TA-W-65,061]

Gemeinhardt Company, LLC, Elkhart, IN; Notice of Termination of Investigation

Pursuant to Section 221 of the Trade Act of 1974, as amended, an investigation was initiated on February 2, 2009 in response to a petition filed by the Chauffeurs, Teamsters and Helpers Union, Local 364, on behalf of workers at Gemeinhardt Company, LLC, Elkhart, Indiana.

The petitioner requested that the petition be withdrawn. Consequently, the investigation has been terminated.

Signed at Washington, DC, this 13th day of March 2009.
Richard Church,
Certifying Officer, Division of Trade Adjustment Assistance.

[FR Doc. E9-6522 Filed 3-24-09; 8:45 am]

BILLING CODE